DEPARTMENT OF COMMERCE

International Trade Administration

A-823-808

Certain Cut-to-Length Carbon Steel Plate from Ukraine; Final Results of Administrative Review of the Suspension Agreement

AGENCY: Import Administration, International Trade Administration, Department of Commerce.

ACTION: Notice of Final Results of the Administrative Review of the Suspension Agreement on Certain Cut-to-Length Carbon Steel Plate from Ukraine.

SUMMARY: On August 9, 2006, the Department of Commerce (the Department) published the preliminary results of an administrative review of the suspension agreement on certain cut-to-length carbon steel plate from Ukraine (the Agreement). See Certain Cut-to-Length Carbon Steel Plate from Ukraine; Preliminary Results of Administrative Review of the Suspension Agreement, 71 FR 45519 (August 9, 2006) (Preliminary Results). The period of review (POR) is November 1, 2004 through October 31, 2005. No interested parties submitted comments and we have made no changes to our preliminary results. Therefore, the final results do not differ from the preliminary results.

EFFECTIVE DATE: December 12, 2006.

FOR FURTHER INFORMATION CONTACT: Judith Rudman or Jay Carreiro, Import Administration, International Trade Administration, U.S. Department of Commerce, 14th Street and Constitution Avenue, NW., Washington, DC 20230, telephone: (202) 482-0192 or (202) 482-3674.

SUPPLEMENTARY INFORMATION:

Background

On October 24, 1997, the Department signed an agreement with the Government of Ukraine (GOU) that suspended the antidumping duty investigation on certain cut-to-length carbon steel plate (CTL plate) from Ukraine. See Suspension of Antidumping Duty Investigation: Certain Cut-to-Length Carbon Steel Plate from Ukraine, 62 FR 61766 (November 19, 1997). In accordance with section 734(g) of the Tariff Act of 1930 (the Tariff Act), on November 19, 1997, the Department also published its final determination of sales at less than fair value in this case. See Notice of Final Determination of Sales at Less Than Fair Value: Certain Cut-to-Length Carbon Steel Plate From Ukraine, 62 FR 61754 (November 19, 1997).

On November 1, 2005, the Department published its notice of opportunity to request an administrative review. Antidumping or Countervailing Duty Order, Finding, or Suspended Investigation; Opportunity to Request Administrative Review, 70 FR 65883 (November 1, 2005). On November 30, 2005, Mittal Steel USA submitted a request for an administrative review. The Department initiated a review of the Agreement on December 22, 2005. See Initiation of Antidumping and Countervailing Duty Administrative Reviews and Request for Revocation in Part, 70 FR 76024 (December 22, 2005). On August 9, 2006, the Department published its preliminary results of review. See Preliminary Results, 71 FR 45519. We invited interested parties to comment on our preliminary results. No interested parties submitted comments and we have made no changes to our preliminary results.

Scope of Review

The products covered by the Agreement include hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in the Agreement are flat-rolled products of nonrectangular cross-section where such cross-section is achieved subsequent to the rolling process (i.e., products which have been “worked after rolling”), for example, products which have been beveled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, the written description of the scope of the Agreement is dispositive. Specifically excluded from subject merchandise within the scope of this Agreement is grade X-70 steel plate.

Period of Review

The POR is November 1, 2004 through October 31, 2005.

Final Results of Review

Our review of the information submitted by the GOU indicates that each of the export licenses governed by the Agreement were at or above the quarterly FOB reference prices stipulated by the Agreement. Furthermore, data supplied by the GOU in its monthly reports, as well as our independent review of import data compiled by U.S. Customs and Border Protection, indicate Ukraine did not exceed its annual export limits. Therefore, we continue to find that the GOU has been in compliance with the Agreement.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation. We are issuing and publishing this determination and notice in accordance with sections 751(a)(1) and 777(i) of the Act.

Dated: November 30, 2006.
David M. Spooner,
Assistant Secretary for Import Adminstration.

[FR Doc. E6-21128 Filed 12-11-06; 8:45 am]

BILLING CODE 3510-DS-S